DEPARTMENT OF ENERGY

Federal Energy Regulatory Commission

[Project No. 2342-011 Washington]

PacifiCorp, Notice of Intention to Hold a Public Meeting on the Draft Supplemental Final Environmental Impact Statement for the Condit Hydroelectric Project

February 12, 2002.

On January 29, 2002, the Commission staff delivered the Draft Supplemental Final Environmental Impact Statement (draft supplemental FEIS) to the U.S. Environmental Protection Agency, resource and land management agencies, and interested organizations and individuals. The draft supplemental FEIS evaluates the environmental consequences of removing Condit dam located on the White Salmon River in Klickitat and Skamania Counties, Washington.

The draft supplemental FEIS was noticed in the Federal Register on February 8, 2002, and comments are due by March 25, 2002.

Commission staff will conduct a public meeting to present the draft supplemental FEIS findings, answer questions about the findings, and solicit public comment. The public meeting will be recorded by a court reporter, and all meeting statements (oral or written) will become part of the Commission's public record of this proceeding.

The meeting will be held Wednesday, March 13, 2002, in the Columbia Room, at the Best Western Hood River Inn, 1108 East Marina Way, Hood River, Oregon. The meeting will begin at 7:00 p.m. and end at 9:30 p.m.

For further information, please contact Nicholas Jayjack at (202) 219-2825.

Magalie R. Salas,
Secretary.

[FR Doc. 02-3911 Filed 2-15-02; 8:45 am]

BILLING CODE 6717-01-P